DEPARTMENT OF THE INTERIOR

Fish and Wildlife Service

Draft Recovery Plan for the Newcomb's Snail (Erinna newcombi)

AGENCY: Fish and Wildlife Service, Interior.

ACTION: Notice of document availability.

SUMMARY: The U.S. Fish and Wildlife Service (“we”) announces the availability for public review of a draft recovery plan for the Newcomb's snail (Erinna newcombi). This aquatic snail is listed as threatened (65 FR 4162) and is endemic to the Hawaiian Island of Kaua'i.

DATE: Comments on the draft recovery plan must be received on or before May 24, 2004 to receive our consideration.

ADDRESSES: Copies of the draft recovery plan and supporting documents are available for inspection, by appointment, during normal business hours at the following locations: U.S. Fish and Wildlife Service, Pacific Islands Fish and Wildlife Office, 300 Ala Moana Boulevard, Room 3-122, Honolulu, Hawaii 96850 (telephone 808-792-9400) and Hawaii State Library, 478 S. King Street, Honolulu, Hawaii 96813. Requests for copies of the draft recovery plan and written comments and materials regarding this plan should be addressed to Gina Schultz, Acting Field Supervisor, Ecological Services, at the above Pacific Islands Fish and Wildlife Office address. An electronic copy of the draft recovery plan is also available at: http://endangered.fws.gov/recovery/index.html#plans (however, due to a temporary interruption in our Internet Service, access to our Website may not be possible).

FOR FURTHER INFORMATION CONTACT: Gordon Smith, Fish and Wildlife Biologist, at the above U.S. Fish and Wildlife Service address.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the recovery plan. Substantive comments regarding recovery plan implementation may not necessarily result in changes to the recovery plan, but will be forwarded to appropriate Federal or other entities so that they can take these comments into account during the course of implementing recovery actions. Individual responses to comments will not be provided.

The Newcomb's snail is an aquatic snail and is known to occur at 10 small locations in streams and springs located in 6 watersheds found in the mountainous interior of the Hawaiian Island of Kaua'i. The Newcomb's snail is a freshwater snail belonging to the lymnaeid family. Adult Newcomb's snails are approximately 6 millimeters (0.25 inches) long, and 3 millimeters (0.12 inches) wide in size. Newcomb's snails feed on algae and other material growing on submerged rocks. Eggs are attached to underwater rocks or vegetation, and the entire life cycle is tied to the stream system in which the adults live. Populations of Newcomb's snail are currently found in small areas within the Kalalau, Lumaha'i, Hanalei, Waipahe'e-Kealia, Makaleha-kapa'a, and North Wailua stream systems on Kaua'i. The range of the snails is usually limited to a few square meters of a single side-channel or waterfall in a stream in which it is found. Historically, Newcomb's snail was also found in Hanakoa, Hanakapi'ai, and Wainiha Streams, but these populations are thought to be extirpated. The great majority of all known Newcomb's snails, perhaps over 90 percent, are thought to be located in the two populations at the small sites in Kalalau and Lumaha'i Streams. Three of the six watersheds containing sites where Newcomb's snails are found are under private ownership, and the remaining sites are located on State of Hawai'i lands.

Some of the historical decline of the snail may be attributed to habitat loss and degradation through water diversion and well drilling. In addition, predation by alien species, natural disasters, and habitat alteration are threats that imperil Newcomb's snails. Currently, Newcomb's snails face an increased likelihood of extinction from naturally-occurring events due to the small number of remaining populations and their limited distribution. Significant habitat destruction through reduction or elimination of stream or spring flow could destroy an entire population of Newcomb's snails, and natural disasters such as hurricanes or catastrophic landslides could also destroy vital habitat.

The overall objective of this draft recovery plan is to ensure the species' long-term conservation and eventual delisting. This recovery will be accomplished through a variety of recovery actions, including: (1) Establishing a baseline per population numbers; (2) research into the basic population biology and life history of the Newcomb's snail; (3) analysis and potential prevention of predation and other forms of negative interspecific interactions that may limit or reduce Newcomb's snail populations; (4) assurance of adequate stream and spring flows to protect known and potential Newcomb's snail habitat; (5) making recovery of Newcomb's snail a part of other landscape planning and conservation efforts, such as preservation of the structure and function of upland forests that maintain and regulate surface run-off to streams and act as areas of infiltration for ground water; (6) use of results of initial recovery efforts and research to periodically validate recovery objectives; and (7) development and implementation of a public outreach program for Newcomb's snail conservation.

The recovery criteria outlined in this draft recovery plan will provide for the maintenance of the majority of the genetic diversity of the Newcomb's snail, and will provide assurance that a single catastrophic event will not reduce populations of Newcomb's snails to the point where they are no longer viable. Delisting criteria for the Newcomb's snail are: (1) Abundance and population variability have been quantified, and an appropriate number of populations are stable or increasing in size due to natural reproduction for a minimum of 5 consecutive years; (2) populations are located in a minimum of eight separate watersheds that are geographically distributed throughout its range; (3) minimum flows are established for stream reaches where populations of Newcomb's snails are located; (4) non-native predators and competitors have been studied, their effects quantified, and appropriate control measures have been established; and (5) a post-delisting monitoring plan covering a minimum of eight watersheds has been completed and is ready for implementation.

Public Comments Solicited

We solicit written comments on the draft recovery plan as described. All comments received by the date specified above will be considered in developing a final recovery plan for this species.

Authority

The authority for this action is section 4(f) of the Endangered Species Act, 16 U.S.C. 1533(f).

Dated: January 14, 2004.
Cynthia U. Barry,
Acting Regional Director, Region 1, U.S. Fish and Wildlife Service.

[FR Doc. 04-6575 Filed 3-23-04; 8:45 am]

BILLING CODE 4310-55-P